DEPARTMENT OF TRANSPORTATION

Office of the Secretary

[Notice 02-1]

Senior Executive Service Performance Review Boards Membership

AGENCY: Office of the Secretary, DOT.

ACTION: Notice of Performance Review Board (PRB) appointments.

SUMMARY: DOT publishes the names of the persons selected to serve on the various Departmental PRBs as required by 5 U.S.C. 4314(c)(4).

FOR FURTHER INFORMATION CONTACT: Mari Barr Santangelo, Departmental Director, Office of Human Resource Management, (202) 366-4088.

SUPPLEMENTARY INFORMATION: The persons named below have been selected to serve on one or more Departmental PRBs.

Issued in Washington, DC, on August 21, 2002.
Melissa J. Allen,
Assistant Secretary for Administration.

Federal Railroad Administration

Jane H. Bachner, Deputy Associate Administrator for Industry and Intermodal Policy, Federal Railroad Administration

Mark Yachmetz, Associate Administrator for Railroad Development, Federal Railroad Administration

Robert Gould, Associate Administrator for Public Affairs, Federal Railroad Administration

Rosalind A. Knapp, Deputy General Counsel, Office of the Secretary

Jerry Hawkins, Director, Office of Human Resources, Federal Highway Administration

Federal Transit Administration

Janet L. Sahaj, Deputy Associate Administrator, Office of Program Management, Federal Transit Administration

William P. Sears, Chief Counsel, Federal Transit Administration

Bruce J. Carlton, Associate Administrator for Policy and International Trade, Maritime Administration

Rosalind A. Knapp, Deputy General Counsel, Office of the Secretary

Glenda Tate, Assistant Administrator for Human Resource Management, Federal Aviation Administration

Office of Inspector General

Thomas J. Bondurant, Assistant Inspector General for Investigations, Department of Justice

Michael Phelps, Deputy Assistant Inspector General for Auditing, Department of Housing and Urban Development

Judith J. Gordon, Assistant Inspector General for Systems Evaluation, Department of Commerce

Nancy Hendricks, Assistant Inspector General for Audit, Federal Emergency Management Agency

Adrienne Rish, Assistant Inspector General for Investigations, Agency for International Development

Joseph R. Willever, Deputy Inspector General, Office of Personnel Management

Elissa Karpf, Assistant Inspector General for Planning, Analysis, & Results, Environmental Protection Agency

Gregory S. Seybold, Assistant Inspector General for Investigations, Department of Agriculture

Carol L. Levy, Assistant Inspector General for Investigations, Defense Contract Investigative Service

Emmett D. Dashiell, Deputy Assistant Inspector General for Investigations, Environmental Protection Agency

United States Coast Guard

RADM K.T. Venuto, Assistant Commandant for Human Resources, United States Coast Guard

RADM J.A. Kinghorn, Assistant Commandant for Systems, United States Coast Guard

RADM (SEL) S. Rochon, Director, Office of Intelligence and Security, United States Coast Guard

RADM H.E. Johnson, Director, Operations Capability, United States Coast Guard

Janet L. Sahaj, Deputy Associate Administrator, Office of Program Management, Federal Transit Administration

Jerry Hawkins, Director, Office of Human Resources, Federal Highway Administration

Jean McKeever, Associate Administrator for Shipbuilding, Maritime Administration

Roberta Gabel, Assistant General Counsel for Environmental, Civil Rights, and General Law, Office of the Secretary

William Outlaw, Associate Administrator for Public Affairs, Federal Highway Administration

National Highway Traffic Safety Administration

Delmas Johnson, Associate Administrator for Administration, National Highway Traffic Safety Administration

William Walsh, Associate Administrator for Plans and Policy, National Highway Traffic Safety Administration

Kenneth Weinstein, Associate Administrator for Safety Assurance, National Highway Traffic Safety Administration

Jacqueline Glassman, Chief Counsel, National Highway Traffic Safety Administration

Michael Vecchetti, Associate Administrator for Administration, Federal Highway Administration

Dorrie Aldrich, Associate Administrator for Administration, Federal Transit Administration

Federal Highway Administration

George Ostensen, Associate Administrator for Safety, Federal Highway Administration

James Rowland, Chief Counsel, Federal Highway Administration

Dwight A. Horne, Director, Office of Program Administration, Federal Highway Administration

Michael J. Vecchietti, Associate Administrator for Administration, Federal Highway Administration

Jane Bachner, Deputy Associate Administrator for Industry and Intermodal Policy, Federal Railroad Administration

Maritime Administration

Robert B. Ostrom, Chief Counsel, Maritime Administration

Margaret D. Blum, Associate Administrator for Port, Intermodal and Environmental Activities, Maritime Administration

James E. Caponiti, Associate Administrator for National Security, Maritime Administration

Jean E. McKeever, Associate Administrator for Shipbuilding, Maritime Administration

Jerry A. Hawkins, Director, Office of Human Resources, Federal Highway Administration

Office of the Secretary, Transportation Administrative Service Center, Bureau of Transportation Statistics

Michael Dannenhauer, Director, Executive Secretariat, Office of the Secretary

Paul Gretch, Director, Office of International Aviation, Office of the Secretary

Randall Bennett, Director, Office of Aviation and International Economics, Office of the Secretary

Roberta D. Gabel, Assistant General Counsel for Environmental, Civil Rights, and General Law, Office of the Secretary

Susan Lapham, Associate Director for Statistical Programs and Services Bureau of Transportation Statistics

Patricia Prosperi, Principal, TASC Information Services, Transportation Administrative Service Center

Edward L. Thomas, Associate Administrator for Research, Demonstration and Innovation, Federal Transit Administration

Research and Special Programs Administration

Christopher W. Strobel, Special Assistant, Office of the Secretary

King W. Gee, Associate Administrator for Infrastructure, Federal Highway Administration

Patricia A. Prosperi, Principal, TASC Information Services, Transportation Administrative Service Center

Federal Motor Carrier Safety Administration

Brian McLaughlin, Associate Administrator for Policy and Program Development, Federal Motor Carrier Safety Administration

Jeffrey Lindley, Director, Office of Travel Management, Federal Highway Administration

Jerry Hawkins, Director, Office of Human Resources, Federal Highway Administration

Thomas Herlihy, Assistant General Counsel for Legislation, Office of the Secretary

Susan Binder, Director, Office of Legislation and Strategic Planning, Federal Highway Administration

William Outlaw, Associate Administrator for Public Affairs, Federal Highway Administration

[FR Doc. 02-21782 Filed 8-26-02; 8:45 am]

BILLING CODE 4910-62-P